DEPARTMENT OF ENERGY

Federal Energy Regulatory Commission

[Docket No. ER00-2186-001, et al.]

PPL Maine, LLC, et al.; Electric Rate and Corporate Regulation Filings

April 18, 2002.

Take notice that the following filings have been made with the Commission:

1. PPL Maine, LLC

[Docket No. ER00-2186-001]

Take notice that on April 15, 2002, PPL Maine, LLC (PPL Maine) filed an updated market power analysis pursuant to the Federal Energy Regulatory Commission's (Commission) Order in Northeast Utilities Service Company, et al., 87 FERC ¶ 61,063.

PPL Maine has served a copy of this filing on the parties on the Commission's official service list for this docket.

Comment Date: May 6, 2002.

2. Entergy Services, Inc.

[Docket No. ER02-405-003]

Take notice that on April 15, 2002, Entergy Services, Inc., on behalf of Entergy Mississippi, Inc., tendered for filing with the Federal Energy Regulatory Commission (Commission), a compliance Interconnection and Operating Agreement with Duke Energy Hinds, LLC, in response to the Commission's March 15, 2002, order in Entergy Services, Inc., 98 FERC ¶ 61,290.

Comment Date: May 6, 2002.

3. Midwest Independent Transmission System Operator, Inc.

[Docket No. ER02-488-002]

Take notice that on 4/15/2002, Midwest Independent Transmission System Operator, Inc. tendered for filing its Operational Protocols for Existing Generators in rate schedule format.

Comment Date: May 6, 2002.

4. Florida Power & Light Company

[Docket No. ER02-766-002]

Take notice that on April 15, 2002, Florida Power & Light Company (FPL) filed, pursuant to the Federal Energy Regulatory Commission's (Commission) Order issued on March 14, 2002 in the above-captioned proceeding, a compliance filing making the required changes to the Interconnection and Operation Agreement between FPL and DeSoto County Generating Company, LLC.

Comment Date: May 6, 2002.

5. Florida Power & Light Company

[Docket No. ER02-782-002]

Take notice that on April 12, 2002, Florida Power & Light Company (FPL) filed, pursuant to the letter order issued on March 13, 2002 in the above-captioned proceeding, a compliance filing making the required changes to the executed Interconnection and Operation Agreement between FPL and CPV Gulfcoast, Ltd.

Comment Date: May 6, 2002.

6. Dorman Materials, Inc.

[Docket No. ER02-893-001]

Take notice that on April 15, 2002, Dorman Materials, Inc. (DMI) petitioned the Commission for acceptance of an amendment to DMI Rate Schedule FERC No. 1; to include the authority to be a third-party provider of ancillary services at market based rates.

Comment Date: May 6, 2002.

7. Ameren Services Company

[Docket No. ER02-928-001]

Take notice that on April 15, 2002, Ameren Services Company (ASC) tendered for filing a Network Integration Transmission Service Agreement and Network Operating Agreement between ASC and the City of Fredericktown, Missouri. ASC asserts that the purpose of the Agreement is to replace the unexecuted Agreements in Docket No. ER 02-928-000 with the executed Agreements.

Comment Date: May 6, 2002.

8. Ameren Services Company

[Docket No. ER02-931-001]

Take notice that on April 15, 2002, Ameren Services Company (ASC) tendered for filing a Network Integration Transmission Service Agreement and Network Operating Agreement between ASC and the City of Owensville, Missouri. ASC asserts that the purpose of the Agreement is to replace the unexecuted Agreements in Docket No. ER 02-931-000 with the executed Agreements.

Comment Date: May 6, 2002.

9. Access Energy Cooperative

[Docket No. ER02-1511-000]

Take notice that on March 21, 2002, as amended April 11, 2002, Access Energy Cooperative (AEC) submitted for filing and acceptance an agreement for transmission service on behalf of Northeast Missouri Electric Power Cooperative to Alliant Utilities—IES Utilities, Inc. pursuant to 205 of the Federal Power Act (FPA), 16 U.S.C. 824d, and 35.12 of the Regulations of the Federal Energy Regulatory Commission (Commission), 18 CFR 35.12. AEC's filing is available for public inspection at its offices in Mt. Pleasant, Iowa.

AEC requests that the Commission accept the agreement with an effective date of March 25, 2002.

Comment Date: May 6, 2002.

10. Cinergy Services, Inc.

[Docket No. ER02-1522-000]

Take notice that on April 15, 2002, Cinergy Services, Inc. (Cinergy) and Duke Energy Trading, L.L.C are requesting a cancellation of Service Agreement No. 90, under Cinergy Operating Companies, FERC Market-Based Power Sales, FERC Electric Tariff Original Volume No. 7.

Cinergy requests an effective date of April 15, 2002.

Comment Date: May 6, 2002.

11. Carolina Power & Light Company

[Docket No. ER02-1523-000]

Take notice that on April 15, 2002, Carolina Power & Light Company (CP&L) tendered for filing Service Agreements for Non-Firm and Short-Term Firm Point-to-Point Transmission Service with UBS AG, London Branch. Service to this Eligible Customer will be in accordance with the terms and conditions of the Open Access Transmission Tariff filed on behalf of CP&L.

CP&L is requesting an effective date of April 1, 2002 for these Service Agreements. A copy of the filing was served upon the North Carolina Utilities Commission and the South Carolina Public Service Commission.

Comment Date: May 6, 2002.

12. Southern California Edison Company

[Docket No. ER02-1524-000]

Take notice that on April 15, 2002, Southern California Edison Company (SCE) tendered for filing a Service Agreement For Wholesale Distribution Service under SCE's Wholesale Distribution Access Tariff and an Interconnection Facilities Agreement (Agreements) between SCE and the City of Industry (Industry). SCE respectfully requests the Agreements become effective on April 15, 2002.

The Agreements specify the terms and conditions under which SCE will provide wholesale Distribution Service from the California Independent System Operator Controlled Grid at SCE's Walnut Substation 230 kV bus to a SCE/Industry interconnection in Industry.

Copies of this filing were served upon the Public Utilities Commission of the State of California and Industry.

Comment Date: May 6, 2002.

13. Progress Ventures, Inc.

[Docket No. ER02-1525-000]

Take notice that on April 15, 2002, Progress Ventures, Inc. (Progress Ventures) tendered for filing an executed Service Agreement between Progress Ventures and the following eligible buyer, Entergy-Koch Trading, L.P. Service to this eligible buyer will be in accordance with the terms and conditions of Progress Ventures Market-Based Rates Tariff, FERC Electric Tariff No. 1.

Progress Ventures requests an effective date of March 15, 2002 for this Service Agreement. Copies of the filing were served upon the North Carolina Utilities Commission, the South Carolina Public Service Commission, the Florida Public Service Commission and the Georgia Public Service Commission.

Comment Date: May 6, 2002.

14. Commonwealth Chesapeake Company, L.L.C.

[Docket No. ER02-1537-000]

Take notice that on April 15, 2002, Commonwealth Chesapeake Company, L.L.C. (Commonwealth) tendered for filing six copies of the Amended and Restated Agreement for the marketing of capacity, energy and ancillary services between Mirant Americas Energy Marketing, LP, formerly known as Southern Company Energy Marketing L.P., and Commonwealth (Marketing Services Agreement), as First Revised Service Agreement No. 1 under Commonwealth's market-based rate tariff.

Comment Date: May 18, 2002.

15. California Independent System Operator Corporation

[Docket No. ER02-1538-000]

Take notice that on April 15, 2002, the California Independent System Operator Corporation (ISO) filed Third Revised Service Agreement No. 120 Under FERC Electric Tariff Original Volume No. 1, which is a Participating Generator Agreement (PGA) between the ISO and Duke Energy Moss Landing LLC. The ISO has revised the PGA to update the list of generating units listed in Schedule 1 of the PGA. The ISO requests an effective date for the revision of September 4, 2001.

The ISO states that the present filing has been served on the California Public Utilities Commission and Duke Energy Moss Landing LLC.

Comment Date: May 6, 2002.

16. Florida Power & Light Company

[Docket No. ER02-1542-000]

Take notice that on April 15, 2002 Florida Power & Light Company (FPL) tendered for filing proposed service agreements with RWE Trading Americas Inc., for Non-Firm transmission service and Firm transmission service under FPL's Open Access Transmission Tariff.

FPL requests that the proposed service agreements become effective on April 15, 2002. FPL states that this filing is in accordance with Section 35 of the Commission's regulations.

Comment Date: May 6, 2002.

17. Ameren Energy

[Docket No. ER02-1544-000]

Take notice that on April 15, 2002, Ameren Energy, Inc. (Ameren Energy), on behalf of Union Electric Company d/b/a AmerenUE and Ameren Energy Generating Company (collectively, the Ameren Parties) with the Federal Energy Regulatory Commission (Commission) pursuant to section 205 of the Federal Power Act, 16 U.S.C., and the market rate authority granted to the Ameren Parties's market rate authorizations entered into with American Electric Power Service Corporation. Ameren Energy seeks Commission acceptance of these service agreements effective February 21, 2002.

Comment Date: May 6, 2002.

18. Aquila Merchant Services, Inc.

[Docket No. ER02-1548-000]

Take notice that on April 15, 2002, Aquila Merchant Services, Inc. (Aquila Merchant) filed two Contingent Call Options between Aquila Merchant and Aquila, Inc. dated March 11, 2002. Aquila Merchant requests that the Contingent Call Options be made effective June 15, 2002.

Comment Date: May 6, 2002.

19. Ameren Services Company

[Docket No. ER02-1547-000]

Take notice that on April 15, 2002, Ameren Services Company (Ameren), on behalf of AmerenUE and AmerenCIPS, submitted for filing the following revised tariff sheets to the Open Access Transmission Tariff of the Ameren Operating Companies (Ameren OATT):

First Revised Sheet No. 131

First Revised Sheet No. 132

First Revised Sheet No. 135

First Revised Sheet No. 138

First Revised Sheet No. 149

First Revised Sheet No. 153

First Revised Sheet No. 160

Second Revised Sheet No. 161

Original Sheet No. 161A

First Revised Sheet No. 162

First Revised Sheet No. 163

First Revised Sheet No. 164

Original Sheet No. 164A

Original Sheet No. 164B

First Revised Sheet No. 165

First Revised Sheet No. 166

First Revised Sheet No. 167

Ameren seeks an effective date of March 1, 2002.

Comment Date: May 6, 2002.

20. EnCana Energy Services Inc.

[Docket No. ER02-1549-000]

Take notice that on April 15, 2002, EnCana Energy (formerly PanCanadian Energy Services, Inc.,) tendered for filing a change in name. This change was effective April 8, 2002. Also included is a Notice of Succession in the form specified in section 131.51 of the Federal Energy Regulatory Commission (Commission) regulations.

Comment Date: May 6, 2002.

21. Ameren Energy

[Docket No. ER02-1550-000]

Take notice that on April 15, 2002, Ameren Energy, Inc., (Ameren Energy) on behalf of Union Electric Company d/b/a AmerenUE and Ameren Energy Generating Company (collectively, the Ameren Parties) pursuant to section 20t of the FPA, 16 U.S.C. and the market rate authority granted to the Ameren Parties, submitted for filing umbrella power sales service agreements under the Ameren Parties' market rate authorizations entered into with Consumer Energy Company d/b/a Consumers Energy Traders. Ameren Energy seeks Commission acceptance of these service agreements effective February 18, 2002.

Copies of this filing were served o the public utilities commissions of Illinois and Missouri and the counterparty.

Comment Date: May 6, 2002.

22. Las Vegas Cogen II, Mirant Las Vegas LLC, Duke Energy Moapa LLC, Reliant Energy Bighorn

[Docket No. ER02-1565-000, ER02-1566-000, ER02-1567-000, and ER02-1568-000]

Take notice that on April 15, 2002, Nevada Power Company tendered for filing four Letters of Understanding between Nevada Power Company and the following generators: (1) Las Vegas Cogeneration II; (2) Mirant Las Vegas, LLC; (3) Duke Energy Moapa, LLC; and (4) Reliant Energy Bighorn, LLC. The Letters of Understanding are submitted as Service Agreement Nos. 110, 111, 112, and 113, respectively, to Nevada Power Company's Open Access Transmission Tariff. Nevada Power Company requests that the Letters of Understanding be made effective as of the execution date of each agreement.

Comment Date: May 6, 2002.

Standard Paragraphs

E. Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Linwood A. Watson, Jr.,
Deputy Secretary.

[FR Doc. 02-10142 Filed 4-24-02; 8:45 am]

BILLING CODE 6717-01-P